DEPARTMENT OF LABOR

Employment and Training Administration

[TA-W-64,401]

Qimonda 200 MM Facility, Including On-Site Leased Workers From Tokyo Electron America, Nikon Precision, Inc., Ebara Technologies, Inc., Air Products and Chemicals, Inc., PSI Repair Services, Exel Logistics, Xperts, Inc., KLA-Tencor Craftcorps, Inc., Colonial Webb, Novellus Systems, Inc., ASML US, Inc., Aviza and Remx Specialty Staffing, a Division of Select Staffing and Qimonda North America Corporation, Qimonda Richmond, a Subsidiary of Qimonda AG Sandston, VA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 11, 2008, applicable to workers of Qimonda 200MM Facility, Sandston, Virginia. The notice was published in the Federal Register on December 30, 2008 (73 FR 79914). The certification was amended on February 10, 2009, March 3, 2009, March 31, 2009, June 12, 2009, July 21, 2009, August 7, 2009, September 17, 2009 and December 31, 2009 to include on-site leased workers of Tokyo Electron America, Nikon Precision, Ebara Technologies, Air Products and Chemicals, Inc. PSI Repair Services, Exel Logistics, Xperts, Inc., KLA/Tencor, Craftcorps, Inc., Colonial Webb, Novellus Systems, Inc., ASML US, Inc., and Aviza Technology, Inc., and Qimonda North America Corp., Qimonda Richmond, an on-site subsidiary of the subject firm. These notices were published in the Federal Register on February 23, 2009 (74 FR 8111), March 11, 2009 (74 FR 10619), April 7, 2009 (74 FR 15752), June 24, 2009 (74 FR 30112), July 30, 2009 (74 FR 38046), August 26, 2009 (74 FR 43157-43158), October 5, 2009 (74 FR 51177) and January 20, 2010 (75 FR 3249).

At the request of the State agency, the Department reviewed the certification for workers of the subject firm. The workers are engaged in the production of DRAM semiconductor wafers.

The company reports that workers leased from RemX Specialty Staffing, a division of Select Staffing were employed on-site at the Sandston, Virginia location of Qimonda 200MM Facility. The Department has determined that these workers were sufficiently under the control of Qimonda 200MM Facility to be considered leased workers.

Based on these findings, the Department is amending this certification to include workers leased from RemX Specialty Staffing, a division of Select Staffing working on-site at the Sandston, Virginia location of the subject firm.

The intent of the Department's certification to include all workers employed at Qimonda 200MM Facility, Sandston, Virginia who were adversely affected by a shift in production to a foreign country followed by increased imports of articles like or directly competitive with DRAM semiconductor wafers produced by the subject firm.

The amended notice applicable to TA-W-64,401 is hereby issued as follows:

All workers of Qimonda 200MM Facility, including on-site leased workers from Tokyo Electron America, Nikon Precision, Inc., Ebara Technologies, Inc., Air Products and Chemicals, Inc., PSI Repair Services, Exel Logistics, Xperts, Inc., KLA-Tensor, Craftcorps, Inc., Colonial Webb, Novellus Systems, Inc., ASML US, Inc., Aviza Technology, and RemX Specialty Staffing, a division of Select Staffing, and including on-site workers of Qimonda North America Corp., Qimonda Richmond, a subsidiary of Qimonda AG, Sandston, Virginia, who became totally or partially separated from employment on or after November 11, 2007 through December 11, 2010, are eligible to apply for adjustment assistance under Section 223 of the Trade Act of 1974, and are also eligible to apply for alternative trade adjustment assistance under Section 246 of the Trade Act of 1974.

Signed at Washington, DC, this 24th day of February 2010.
Elliott S. Kushner
Certifying Officer, Division of Trade Adjustment Assistance.

[FR Doc. 2010-5304 Filed 3-11-10; 8:45 am]

BILLING CODE 4510-FN-P